DEPARTMENT OF HOMELAND SECURITY

Coast Guard

33 CFR Part 117

[Docket No. USCG-2015-0963]

Drawbridge Operation Regulation; Cerritos Channel, Long Beach, CA

AGENCY: Coast Guard, DHS.

ACTION: Notice of deviation from drawbridge regulation.

SUMMARY: The Coast Guard has issued a temporary deviation from the operating schedule that governs the Commodore Schuyler F. Heim highway drawbridge across the Cerritos Channel, mile 4.9, at Long Beach, CA. During the deviation electrical power will be disconnected from the bridge to allow removal of the bridge from the waterway. This deviation allows the bridge to remain in the closed-to-navigation position during its removal.

DATES: This deviation is effective without actual notice from November 5, 2015 through 6 p.m. on November 25, 2015. For the purposes of enforcement, actual notice will be used from 6 a.m. on October 12, 2015 until November 5, 2015.

ADDRESSES: The docket for this deviation, [USCG-2015-0963] is available at http://www.regulations.gov.

FOR FURTHER INFORMATION CONTACT: If you have questions on this temporary deviation, call or email David H. Sulouff, Chief, Bridge Section, Eleventh Coast Guard District; telephone 510-437-3516, email David.H.Sulouff@uscg.mil.

SUPPLEMENTARY INFORMATION: California Department of Transportation has requested a temporary change to the operation of the Commodore Schuyler F. Heim highway drawbridge, mile 4.9, over Cerritos Channel, at Long Beach, CA. The bridge will provide a vertical clearance of 30 feet above Mean High Water in the closed-to-navigation position until October 26, 2015. After October 26, 2015, the bridge and falsework will provide a vertical clearance of 5 feet above Mean High Water until the bridge and falsework are removed completely from the waterway. The bridge currently operates as required by 33 CFR 117.147(a). Navigation on the waterway is commercial and recreational.

The bridge will be secured in the closed-to-navigation position from 6 a.m. on October 12 to 6 p.m. on November 25, 2015 while the bridge is removed from the waterway. This temporary deviation has been coordinated with the waterway users. No objections to the proposed temporary deviation were raised.

Vessels able to pass through the bridge in the closed position may do so at anytime. The bridge will not be able to open for emergencies and Los Angeles Harbor can be used as an alternate route for vessels. The Coast Guard will also inform the users of the waterway by our Local and Broadcast Notices to Mariners of the change in operating schedule for the bridge so they can arrange their transits to minimize any impact caused by the temporary deviation.

The bridge will be removed from the waterway and 33 CFR 117.147(a) will be revised accordingly. This deviation from the operating regulations is authorized under 33 CFR 117.35.

Dated: October 12, 2015.
D.H. Sulouff,
District Bridge Chief, Eleventh Coast Guard District.

[FR Doc. 2015-28293 Filed 11-4-15; 8:45 am]

BILLING CODE 9110-04-P